DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0361.

Project: Harm Reduction Grant Program Target Setting and Quarterly Aggregate Reporting Instrument—(OMB No. 0930-XXXX)

SAMHSA is requesting approval for its Harm Reduction Grant Program Annual Target Setting and Aggregate Quarterly Reporting Instrument. In developing the instrument, we sought to elicit programmatic information that demonstrates impact at the program level aligned with the Notice of Funding Opportunity. In this way, data from the Government Performance and Results Act (GPRA) tool can be used to assess resource allocation and to delineate who we serve, how we serve them, and program impacts. The tool reflects SAMHSA's desire to elicit pertinent program level data that can be used to not only guide future programs and practice, but to also respond to stakeholder, congressional, and agency enquiries.

The information collected from these forms is to be entered and stored in SAMHSA's Performance Accountability and Reporting System (SPARS), which is a real-time, performance management system that captures information on the substance misuse treatment and mental health services delivered in the United States. Approval of this information collection will allow SAMHSA to continue to meet GPRA reporting requirements that quantify the effects and accomplishments of its discretionary grant programs, which are consistent with OMB guidance.

SAMHSA and its Centers will use the data for annual reporting required by the Government Performance and Results Act Modernization Act of 2010 (GPRMA). GPRMA requires that SAMHSA's fiscal year report include actual results of performance monitoring for the three preceding fiscal years. The additional information collected through this process will allow SAMHSA to (1) report results of these performance outcomes; (2) maintain consistency with SAMHSA-specific performance domains, and (3) assess the accountability and performance of its discretionary and formula grant programs.

The instruments have been revised to reflect comments received during the 60-Day Federal Register comment period. Changes include replacing reporting individuals being served with service encounters throughout the instruments. This will ease burden on respondents. Additionally, adjustments have been made in the language related to reporting age and race/ethnicity.

Table 1—Estimates of Annualized Hour Burden
SAMHSA tool | Number of respondents | Responses per respondent | Total number of responses | Burden hours per response | Total burden hours | Hourly wage estimate | Total hour cost
Target Setting Tool | 25 | 1 | 25 | 0.6 | 15 | ¹ $24.78 | $372
Aggregate Program Level Tool ² | 25 | 4 | 100 | 0.6 | 60 | 24.78 | 1,487
Total | 25 |  | 125 |  | 75 |  | 1,859
¹ The hourly wage estimate is based on the Occupational Employment and Wages, Mean Hourly Wage Rate for 21-1011 Substance Abuse and Behavioral Disorder Counselors = $24.78/hr. (http://www.bls.gov/oes/current/oes211011.htm. Accessed on May 11, 2021.)
² This is an aggregate tool and collection is based on encounters.

Written comments and recommendations for the proposed information collection should be sent within 30 days of publication of this notice to www.reginfo.gov/public/do/PRAMain. Find this particular information collection by selecting “Currently under 30-Day Review—Open for Public Comments” or by using the search function.

Carlos Graham,
Reports Clearance Officer.

[FR Doc. 2022-14570 Filed 7-7-22; 8:45 am]

BILLING CODE 4162-20-P